DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Defense Federal Acquisition Regulation Supplement (DFARS) Appendix I, DoD Pilot Mentor Protégé OMB Number 0704-0332.

Type of Request: Revision.

Number of Respondents: 269.

Responses Per Respondent: 3.

Annual Responses: 393.

Average Burden Per Response: 1 hour reporting; 3.7 hours recordkeeping.

Annual Burden Hours: 931 (Includes 538 recordkeeping hours).

Needs and Uses: Dod needs this information to evaluate whether the purposes of the DoD Pilot Mentor-Protégé Program have been met. The purposes of the program are to: (1) Provide incentive to major DoD contractors to assist protégé firms in enhancing their capabilities to satisfy contract and subcontract requirements; (2) increase the overall participation of protégé firms as subcontractors and suppliers; and (3) foster the establishment of long-term relationships between protégé firms and major DoD contractors. This program implements Section 831 of the National Defense Authorization Act for Fiscal Year 1991 (Pub. L. 101-510) and Section 811 of the National Defense Authorization Act for Fiscal Year 2000 (Pub. L. 106-65) (10 U.S.C. 2302 note).

Affected Public: Business or Other For-Profit; Not-For-Profit Institutions.

Frequency: On occasion.

Respondent's Obligation: Required to Obtain or Retain Benefits.

OMB Desk Officer: Mr. Lewis W. Oleinick.

Written comments and recommendations on the proposed information collection should be sent to Mr. Oleinick at the Office of Management and Budget, Desk Officer for DoD (Acquisition), Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 25, 2001.
Patricia L. Toppings,
Alternate OSD Federal Register Liaison Officer, Department of Defense.

[FR Doc. 01-2696 Filed 1-31-01; 8:45 am]

BILLING CODE 5001-10-M